DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NHSC).

DATES: Dates and Times: September 26, 2013, 2:00 p.m.-3:30 p.m. (EST).

Place: The meeting will be via audio conference call.

Status: The meeting will be open to the public.

Agenda: The Council is holding a meeting via conference call to discuss the National Health Service Corps role in the Affordable Care Act. The public can join the meeting via audio conference call on the date and time specified above using the following information: Dial-in number: 1-800-857-5081; Passcode: 1060359. There will be an opportunity for the public to comment towards the end of the call.

FOR FURTHER INFORMATION CONTACT: Njeri Jones, Bureau of Clinician Recruitment and Service, Health Resources and Services Administration, Parklawn Building, Room 13-64, 5600 Fishers Lane, Rockville, Maryland 20857; email: NJones@hrsa.gov; telephone: 301-443-2541.

Dated: September 4, 2013.
Bahar Niakan,
Director, Division of Policy and Information Coordination.

[FR Doc. 2013-21966 Filed 9-9-13; 8:45 am]

BILLING CODE 4165-15-P